DEPARTMENT OF TRANSPORTATION

Federal Aviation Administration

14 CFR Part 39

[Docket No. FAA-2012-1073; Directorate Identifier 2012-NM-078-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 767-300 series airplanes. This proposed AD was prompted by a report that, for certain airplanes, reinforcement straps were not bonded to the center overhead stowage bins in the passenger compartment. For certain airplanes, this proposed AD would require performing an inspection of reinforcement straps to ensure they are correctly bonded to the center overhead stowage bins, and bonding the reinforcement straps to the center overhead stowage bins if necessary. For certain airplanes, this proposed AD would require installing reinforcement straps on the center overhead stowage bins. We are proposing this AD to prevent missing or incorrectly bonded reinforcement straps, which could result in the center overhead stowage bins breaking loose and causing injury to passengers and damage to equipment during in-flight turbulence.

DATES: We must receive comments on this proposed AD by November 30, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Sarah Piccola, Aerospace Engineer, Cabin Safety and Environmental Systems Branch, ANM-150S, FAA, Seattle Aircraft Certification Office, 1601 Lind Avenue SW., Renton, Washington 98057-3356; phone: 425-917-6483; fax: 425-917-6590; email: sarah.piccola@faa.gov.

SUPPLEMENTARY INFORMATION:

Comments Invited

We invite you to send any written relevant data, views, or arguments about this proposal. Send your comments to an address listed under the ADDRESSES section. Include “Docket No. FAA-2012-1073; Directorate Identifier 2012-NM-078-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report that, for certain airplanes, reinforcement straps installed at specified stations for the center overhead stowage bins in the passenger compartment were not correctly bonded to the stowage bins. In addition, for some airplanes, reinforcement straps may have been missing on the center overhead stowage bins at other specified stations. This condition, if not corrected, could result in the center overhead stowage bins breaking loose and causing injury to passengers and damage to equipment during in-flight turbulence.

Relevant Service Information

We reviewed Boeing Special Attention Service Bulletin 767-25-0520, dated February 8, 2012. For certain airplanes, this service bulletin describes procedures for general visual and detailed inspections of the existing reinforcement straps installed on the center overhead storage bins in the passenger compartment to ensure they are bonded to the center overhead storage bins. For airplanes on which the straps are incorrectly bonded, this service bulletin describes procedures for bonding the reinforcement straps to the center overhead stowage bins. For certain airplanes, this service bulletin describes procedures for installing reinforcement straps.

FAA's Determination

We are proposing this AD because we evaluated all the relevant information and determined the unsafe condition described previously is likely to exist or develop in other products of the same type design.

Proposed AD Requirements

This proposed AD would require accomplishing the actions specified in the service information described previously.

Costs of Compliance

We estimate that this proposed AD affects 4 airplanes of U.S. registry.

We estimate the following costs to comply with this proposed AD:

Estimated Costs
Action | Labor cost | Parts cost | Cost per product | Cost on U.S. operators
Group 1 and Group 2 Airplanes: General Visual Inspection for Correct Bonding | 2 work-hours × $85 per hour = $170 | $0 | $170 | $340 (2 airplanes).
Group 1 and Group 3 Airplanes: Install Reinforcement Straps | 7 work-hours × $85 per hour = $595 | $1,277 or $1,746 | $1,872 or $2,341 | Up to $4,682 (2 airplanes).

We estimate the following costs to do any necessary repairs that would be required based on the results of the proposed inspection. We have no way of determining the number of aircraft that might need this repair:

On-Condition Costs
Action | Labor cost | Parts cost | Cost per product
Group 1 and Group 2 Airplanes: Bonding Existing Reinforcement Straps to the Center Overhead Stowage Bins | Between 7 and 12 work-hours × $85 per hour = $595 to $1,020 | $0 | Between $595 and $1,020.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2012-1073; Directorate Identifier 2012-NM-078-AD.

(a) Comments Due Date

We must receive comments by November 30, 2012.

(b) Affected ADs

None.

(c) Applicability

This AD applies to The Boeing Company Model 767-300 series airplanes, certificated in any category, as identified in Boeing Special Attention Service Bulletin 767-25-0520, dated February 8, 2012.

(d) Subject

Joint Aircraft System Component (JASC) Code 2520, Passenger Compartment Equipment.

(e) Unsafe Condition

This proposed AD was prompted by a report that, for certain airplanes, reinforcement straps were not bonded to the center overhead stowage bins in the passenger compartment. We are issuing this AD to prevent missing or incorrectly bonded reinforcement straps, which could result in the center overhead stowage bins breaking loose and causing injury to passengers and damage to equipment during in-flight turbulence.

(f) Compliance

Comply with this AD within the compliance times specified, unless already done.

(g) Inspection, Bonding, and Installation of Reinforcement Straps

Within 36 months after the effective date of this AD, do a general visual or detailed inspection to determine the condition of the reinforcement straps for the center overhead stowage bins, and bond the reinforcement straps to the stowage bins as applicable; and install reinforcement straps as applicable; in accordance with the Accomplishment Instructions of Boeing Special Attention Service Bulletin 767-25-0520, dated February 8, 2012.

(h) Alternative Methods of Compliance (AMOCs)

(1) The Manager, Seattle Aircraft Certification Office (ACO), ANM-150S, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(i) Related Information

(1) For more information about this AD, contact Sarah Piccola, Aerospace Engineer, Cabin Safety and Environmental Systems Branch, ANM-150S, FAA, Seattle Aircraft Certification Office, 1601 Lind Avenue SW., Renton, Washington 98057-3356; phone: (425) 917-6483; fax: (425) 917-6590; email: sarah.piccola@faa.gov.

(2) For service information identified in this AD, contact Boeing Commercial Airplanes, Attention: Data & Services Management, P.O. Box 3707, MC 2H-65, Seattle, WA 98124-2207; telephone (206) 544-5000, extension 1; fax (206) 766-5680; Internet https://www.myboeingfleet.com. You may review copies of the referenced service information at the FAA, Transport Airplane Directorate, 1601 Lind Avenue SW., Renton, Washington. For information on the availability of this material at the FAA, call 425-227-1221.

Issued in Renton, Washington, on October 4, 2012.
Dionne Palermo,
Acting Manager, Transport Airplane Directorate, Aircraft Certification Service.

[FR Doc. 2012-25450 Filed 10-15-12; 8:45 am]

BILLING CODE 4910-13-P